DEPARTMENT OF LABOR

Office of the Secretary

Submission for OMB Review; Comment Request

March 20, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King.Darrin@dol.gov.

Comments should be sent to Office of Information and Regulatory Affairs, Attn: OMB Desk Officer for EBSA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration (EBSA).

Type of Review: Extension of a currently approved collection.

Title: ERISA Summary Annual Report Requirement.

OMB Number: 1210-0040.

Affected Public: Business or other for-profit; not-for-profit institutions; and individuals or households.

Frequency: Annually.

Type of Response: Third party disclosure.

Number of Respondents: 815,114.

Number of Annual Responses: 304,195,943.

Estimated Time Per Response: 30 minutes.

Total Burden Hours: 421,761.

Total Annualized Capital/Startup Costs: $0.

Total Annual Costs (operating/maintaining systems or purchasing services): $188,211,295.

Description: Section 104(b)(3) of the Employee Retirement Income Security Act and regulations at 29 CFR 2520.104b-10 require employee benefit plans to furnish a summary of the plan's annual report to participants and beneficiaries for purposes of disclosing basic easy to understand financial information.

Ira L. Mills,
Departmental Clearance Officer.

[FR Doc. 03-7195 Filed 3-25-03; 8:45 am]

BILLING CODE 4510-29-M